Title 3—

The President

Proclamation 8752 of November 8, 2011

World Freedom Day, 2011

By the President of the United States of America

A Proclamation

On November 9, 1989, the German people broke through a barrier that divided their nation, demonstrating no wall is strong enough to hold back the rising tide of human liberty. There could be no clearer rebuke of tyranny, nor a stronger affirmation of freedom. On World Freedom Day, we commemorate the fall of the Berlin Wall, celebrate the resilience of the human spirit, and stand with all those who live in the darkness of oppression and believe in the hope of a brighter day.

This pivotal moment in the global march toward liberty heralded a new era in Europe and around the world. Today, we once again find ourselves at a crossroads of history as a wave of democratic movements sweeps away oppressive dictatorships in the Middle East and North Africa.

Just as the United States supported the aspirations of those who emerged from behind the Iron Curtain, we continue to stand with all who seek their universal rights and reach for a future that offers dignity, justice, equality, personal freedom, and greater economic opportunity. Recent developments in the Middle East and North Africa remind us that the pursuit of liberty endures. As people around the world embrace the cause of human freedom, they take steps toward a more stable and prosperous future.

Today, we pay tribute to the brave individuals who, despite all risks, tear down barriers that obstruct democracy and justice for all. Let us keep in our thoughts those who still live under totalitarian regimes, and let us honor their courage to hold fast to the promise of a better future. On World Freedom Day, we renew our commitment to all who believe—even in the face of cynicism, doubt, and oppression—that walls truly can come down.

NOW, THEREFORE, I, BARACK OBAMA, President of the United States of America, by virtue of the authority vested in me by the Constitution and the laws of the United States, do hereby proclaim November 9, 2011, as World Freedom Day. I call upon the people of the United States to observe this day with appropriate ceremonies and activities, reaffirming our dedication to freedom and democracy.

IN WITNESS WHEREOF, I have hereunto set my hand this eighth day of November, in the year of our Lord two thousand eleven, and of the Independence of the United States of America the two hundred and thirty-sixth.

[FR Doc. 2011-29529

Filed 11-10-11; 11:15 am]

Billing code 3295-F2-P